ENVIRONMENTAL PROTECTION AGENCY

[SW-FRL-6969-9]

Notice of Data Availability for Additional Information Submitted by FMC/Astaris LLC Regarding the Case-By-Case Extension of the Land Disposal Restrictions (LDR) Effective Date for Hazardous Wastes Generated at Their Pocatello, Idaho Facility

AGENCY: Environmental Protection Agency (EPA).

ACTION: Notice of Data Availability.

SUMMARY: On March 16, 2001, EPA proposed to approve the FMC/Astaris LLC's (FMC/Astaris) request for a one-year renewal of their existing Case-by-Case (CBC) extension of the Resource Conservation and Recovery Act land disposal restrictions (LDR) applicable to five hazardous wastes generated at their Pocatello, Idaho facility. FMC/Astaris' existing CBC extension expires on May 26, 2001. Today's “Notice” announces that FMC/Astaris has submitted additional information to EPA that is relevant to their requested renewal of the current CBC extension for these five hazardous wastes. This information covers the potential use of High Temperature Dust Filtration (HTDF) technology at their Pocatello facility, the management of the three hazardous waste streams not wholly eliminated by the HTDF system, and the effect of electric power shortages on facility production and the quantity of wastes generated there.

DATES: Comments on the additional information provided by FMC/Astaris (which has been entered into the RCRA Information Center) must be submitted by May 4, 2001.

ADDRESSES: The official record for this action is identified as Docket Number F-2001-FM2P-FFFFF. The official record of the FMC/Astaris request and related materials are available for viewing in the RCRA Information Center (RIC), located at Crystal Gateway I, First Floor, 1235 Jefferson Davis Highway, Arlington, VA. The RIC is open from 9 a.m. to 4 p.m., Monday through Friday, excluding federal holidays. To review docket materials, it is recommended that you make an appointment by calling (703) 603-9230. You may copy a maximum of 100 pages from any regulatory docket at no charge. Additional copies cost $0.15/page. The index and some supporting materials are available electronically. See the SUPPLEMENTARY INFORMATION section for information on accessing them.

You must send an original and two copies of your comments, referencing docket number F-2001-FM2P-FFFFF, to: (1) if using regular US Postal Service mail: RCRA Docket Information Center, Office of Solid Waste (5305G), U.S. Environmental Protection Agency Headquarters (EPA, HQ), Ariel Rios Building, 1200 Pennsylvania Avenue, NW., Washington, DC 20460, or (2) if using special delivery, such as overnight express service: RCRA Docket Information Center (RIC), Crystal Gateway One, 1235 Jefferson Davis Highway, First Floor, Arlington, VA 22202. Comments may also be submitted electronically through the Internet to: rcra-docket@epa.gov. Comments in electronic format should also be identified by the docket number F-2001-FM2P-FFFFF and must be submitted as an ASCII file avoiding the use of special characters and any form of encryption.

You may claim information that you submit in response to this notice as confidential by marking any part or all of that information as Confidential Business Information (CBI). Information so marked will not be disclosed, except in accordance with procedures set forth in 40 CFR part 2. Commenters should not submit any CBI electronically. An original and two copies of CBI must be submitted under separate cover to: RCRA CBI Document Control Officer, c/o Regina Magbie, Office of Solid Waste (5305W), U.S. EPA, Ariel Rios Building, 1200 Pennsylvania Avenue, NW., Washington, DC 20460. If you submit CBI by courier/overnight express, an original and two copies of the CBI must be sent to: RCRA CBI Document Control Officer, c/o Regina Magbie, Office of Solid Waste (5305W), U.S. EPA, 2800 Crystal Drive, 7th Floor, Arlington, VA 22202. A copy of the comment that does not contain CBI must be submitted for inclusion in the public record. Information not marked confidential will be included in the public docket by EPA without prior notice.

FOR FURTHER INFORMATION CONTACT: For general information about this notice, contact the RCRA Hotline at (800) 424-9346 or TDD (800) 553-7672 (hearing impaired). In the Washington, DC metropolitan area, call (703) 412-9810 or TDD (703) 412-3323.

For more detailed information on the FMC/Astaris submission, contact Mr. William Kline, Office of Solid Waste, 5302W, U.S. Environmental Protection Agency, Ariel Rios Building, 1200 Pennsylvania Avenue, NW., Washington, DC 20460, (703) 308-8440, [e-mail address: kline.bill@epa.gov].

SUPPLEMENTARY INFORMATION: The index of all supporting materials evaluated by EPA concerning the FMC/Astaris request is available on the Internet. You will find the index at: http://www.epa.gov/epaoswer/hazwaste/ldr/fmc.htm. The official record for this action will be kept in paper form. Accordingly, EPA will transfer all comments received electronically into paper form and place them in the official record, which will also include all comments submitted directly in writing. The official record is the paper record maintained at the location noted in ADDRESSES at the beginning of this document.

EPA's responses to comments will be in a Federal Register notice or in a response to comments document placed in the official record for this rulemaking. EPA will not immediately reply to commenters electronically other than to seek clarification of electronic comments that may be garbled in transmission or during conversion to paper form.

I. Background of the FMC/Astaris LLC Case-by-Case Extension Request

II. Additional Information Submitted by FMC/Astaris Since EPA's Notice of Proposed Decision

A. Potential Use of High Temperature Dust Filtration (HTDF) Technology

B. Managing the Waste Streams Not Eliminated by the proposed HTDF System

C. Effect of the Western Energy Shortage on Waste Generation

D. Responses to Questions Raised by EPA

III. How Can I Influence EPA's Decision making?

IV. What Happens After We Receive Your Comments?

V. Comments received to-date

I. Background of the FMC/Astaris LLC Case-by-Case Extension Request

On March 16, 2001 (see 66 FR 15243), EPA proposed to approve FMC/Astaris' request for a one-year renewal of their existing CBC extension applicable to five hazardous waste streams generated at their Pocatello, Idaho facility. EPA approved their existing CBC extension because, at the time, there was a demonstrated lack of available treatment capacity for these five waste streams, and FMC/Astaris had not commenced operating an on-site LDR treatment plant being built to treat these wastes.

The five waste streams, generated by the production of elemental phosphorous at the Pocatello facility, are: (1) NOSAP Slurry, (2) Medusa Scrubber Blowdown, (3) Furnace Building Washdown, (4) Precipitator Slurry, and (5) Phossy Water. These wastes exhibit two characteristics of hazardous waste: reactivity due to the presence of cyanide and phosphine, and ignitability.

The waste streams are generated in large quantities and pose unique handling, treatment, and disposal problems because of the presence of elemental phosphorous and cyanide. Each of these waste streams also contains varying levels of Naturally Occurring Radioactive Material, which most commercial Treatment, Storage, and Disposal Facilities are not permitted to manage.

II. Additional Information Submitted by FMC/Astaris Since the Notice of EPA's Proposed Decision

The March 16, 2001 Federal Register notice of proposed decision on the FMC/Astaris CBC extension renewal was premised on the commitment made by FMC/Astaris (and EPA's agreement with this commitment) that FMC/Astaris would complete construction of their planned LDR Treatment Plant and begin its operation by May, 2002. A description of the LDR Treatment Plant (and the schedule for constructing it and bringing it on line) is in the Docket for the March 16, 2001 Federal Register notice.

FMC/Astaris has informed EPA that they are now considering an entirely different technology, referred to as High Temperature Dust Filtration (HTDF), to address the generation of the five waste streams and possibly supplant the LDR Treatment Plant. EPA discussed this possibility in the Agency's March 16, 2001 Federal Register notice. FMC/Astaris states that this technology, if employed, would eliminate two of the five waste streams now generated and also cause a substantial change in the composition of the other three waste streams—such that the LDR Treatment Plant would no longer be necessary to treat these wastes. FMC/Astaris plans to make a final decision this month on which process or treatment option it will pursue.

A. Potential Use of High Temperature Dust Filtration (HTDF) Technology

As described in the March 16, 2001 submittal of information, High Temperature Dust Filtration (HTDF) would be incorporated into the elemental phosphorus production process. Specifically, it would be located directly after the facility's electric arc furnaces, replacing a series of two electrostatic precipitators in the existing phosphorus recovery system.

Replacing the existing phosphorus recovery system would eliminate two of the five waste streams, Precipitator Slurry and NOSAP Slurry. FMC/Astaris also claims that the HTDF technology would significantly reduce the volume and alter the composition of the other three waste streams (Phossy Water, Medusa Scrubber Blowdown, and Furnace Building Washdown).

FMC/Astaris' March 16, 2001 information submittal is available for review in the RCRA Information Center. In this submittal, FMC/Astaris describes how employing the HTDF technology would allow them to meet each of the seven CBC demonstrations required in 40 CFR 268.5(a). It also describes in detail how this technology works.

B. Managing the Waste Streams Not Eliminated by the HTDF System

As noted above, the HTDF system would not eliminate three of the five waste streams subject to the CBC extension renewal. FMC/Astaris sent EPA another package of information on March 29, 2001 that describes how, if the HTDF system is used, these remaining three waste streams would be managed using one or more of the following: pH adjustment followed by solids precipitation/clarification; reconfigured flow of these waste streams within the system; and recycling/reuse of the waste stream/clarified water. This submittal also describes why FMC/Astaris believes these waste streams would continue to necessitate the CBC extension renewal and how each of the seven demonstrations required under 40 CFR 268.5(a) are met. The March 29, 2001 information is available for review in the RCRA Information Center.

C. Effect of Energy Shortages on Production and Generated Wastes

On March 30, 2001, FMC/Astaris sent us another letter stating that the current power shortages in the western United States will impact plant production, and thus reduce the generation of waste subject to the CBC extension. FMC/Astaris also states that despite the decrease in waste generation, construction of their LDR Treatment Plant is proceeding on schedule.

D. Responses to Questions Raised by EPA

Our initial review of the additional information provided by FMC/Astaris raised questions for which we sought clarification. Specifically, we had questions regarding their planned management of the waste streams not wholly eliminated by the HTDF system, one question about the effect of the HTDF system on the facility's air emissions, and one question regarding the cutback in plant production as a result of the current energy shortage. On April 10, 2001, FMC/Astaris provided responses to each of these questions. Copies of their responses are included in the docket for this notice.

III. How Can I Influence EPA's Decisionmaking?

We welcome your comments on the FMC/Astaris submission of additional information. Your comments will be most effective if you follow these suggestions:

• Explain your views clearly.

• Provide specific examples to illustrate your views.

• Offer specific alternatives.

• Submit your comments by the deadline in this notice.

• Include your name, date, and the docket number.

IV. What Happens After We Receive Your Comments?

We will use your comments in making a decision about whether to approve or deny the FMC/Astaris request for a one-year CBC extension renewal, as discussed in the March 16 Federal Register Notice (see 66 FR 15243). We plan to publish a final notice regarding the Agency's decision on this request prior to the May 26, 2001 expiration date of the existing CBC extension.

V. Comments Received To-Date

The additional information provided by FMC/Astaris to EPA also has been provided to the Shoshone-Bannock Tribes, who are concerned about operations at the Pocatello facility. Because the Tribes were provided this information at the same time that it was submitted to EPA, we believe that a comment period of ten days is sufficient time for public review of the additional information. To date, only the Shoshone-Bannock Tribes and FMC/Astaris have commented on the issues discussed in today's “Notice”.

Authority: Sections 1006, 2002(a), 3001, and 3004 of the Solid Waste Disposal Act, as amended by the Resource Conservation and Recovery Act of 1976, as amended (42 U.S.C. 6905, 6912(a), 6921, and 6924).

Dated: April 17, 2001.
Michael H. Shapiro,
Acting Assistant Administrator for Solid Waste and Emergency Response.

[FR Doc. 01-10247 Filed 4-23-01; 8:45 am]

BILLING CODE 6560-50-P